Title 3—

The President

Proclamation 10336 of January 31, 2022

American Heart Month, 2022

By the President of the United States of America

A Proclamation

Heart disease is a leading cause of death in the United States, claiming the lives of more than 650,000 people each year. During American Heart Month, we raise awareness of the risks of heart disease, remember those we have lost, and highlight steps we can all take to save the lives of countless loved ones and address the unequal burden of heart disease in high-risk communities.

Through research and innovation, we have made considerable progress in recent years to advance our knowledge and treatment of heart disease. New technologies allow us to diagnose, prevent, and treat heart disease more rapidly and effectively than ever before. We also have a better understanding of heart disease risk factors, such as high blood pressure, bad cholesterol, smoking, being overweight or obese, and type 2 diabetes.

Despite the significant progress we have made, heart disease continues to exact a heartbreaking toll—a burden disproportionately carried by Black and brown Americans, American Indians and Alaska Natives, and people who live in rural communities. Cardiovascular diseases—including heart conditions and strokes—are also a leading cause of pregnancy-related deaths, which are highest among women of color. Addressing these tragic disparities and improving heart health has never been more important, as people suffering from heart disease and related conditions are also at increased risk of severe illness and long-term effects from COVID-19.

My Administration is committed to supporting Americans in their efforts to achieve better heart health, as well as closing the racial gaps in cardiovascular disease. That is why I have asked the Congress to launch a major new initiative—the Advanced Research Projects Agency for Health, or ARPA-H—which would invest billions of dollars in preventing, detecting, and treating cancer, cardiovascular conditions, and other deadly diseases. My Administration is also working across Federal agencies to develop new programs to alleviate heart health disparities, including those that threaten maternal health.

Engaging in regular physical activity, maintaining a healthy diet and weight, managing stress, avoiding smoking and vaping, and getting quality sleep each night can all reduce the risk of heart disease and help people live longer, healthier lives. While it is essential to see a health care professional if you have symptoms or risk factors related to heart disease, research shows that taking a little time each day to promote a healthy lifestyle can help improve your long-term heart health.

On Friday, February 4th—National Wear Red Day—we honor those we have lost to heart disease and raise awareness of the actions we can all take to prevent it. The First Lady and I encourage all Americans to observe this important day. Continuing the fight against cardiovascular disease is crucial to improving our Nation's public health. During American Heart Month, we must recommit ourselves to ensuring a healthier future for all Americans.

In acknowledgement of the importance of the ongoing fight against cardiovascular disease, the Congress, by Joint Resolution approved December 30, 1963, as amended (36 U.S.C. 101), has requested that the President issue an annual proclamation designating February as “American Heart Month.”

NOW, THEREFORE, I, JOSEPH R. BIDEN JR., President of the United States of America, do hereby proclaim February 2022 as American Heart Month, and I invite all Americans to participate in National Wear Red Day on February 4, 2022. I also invite the Governors of the States, the Commonwealth of Puerto Rico, officials of other areas subject to the jurisdiction of the United States, and the American people to join me in recognizing and reaffirming our commitment to fighting cardiovascular disease.

IN WITNESS WHEREOF, I have hereunto set my hand this thirty-first day of January, in the year of our Lord two thousand twenty-two, and of the Independence of the United States of America the two hundred and forty-sixth.

[FR Doc. 2022-02447

Filed 2-2-22; 11:15 am]

Billing code 3395-F2-P